DEPARTMENT OF HOMELAND SECURITY

Federal Emergency Management Agency

[Docket ID FEMA-2020-0002; Internal Agency Docket No. FEMA-B-2067]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Denver | City and County of Denver (20-08-0372P). | The Honorable Michael B. Hancock, Mayor, City and County of Denver, 1437 North Bannock Street, Room 350, Denver, CO 80202. | Department of Public Works, 201 West Colfax Avenue, Denver, CO 80202. | https://msc.fema.gov/portal/advanceSearch. | Feb. 11, 2021 | 080046
Eagle | Town of Basalt (20-08-0275P). | Mr. Ryan Mahoney, Manager, Town of Basalt, 101 Midland Avenue, Basalt, CO 81621. | Town Hall, 101 Midland Avenue, Basalt, CO 81621. | https://msc.fema.gov/portal/advanceSearch. | Jan. 26, 2021 | 080052
Eagle | Unincorporated areas of Eagle County (20-08-0275P). | Mr. Jeff Schroll, Eagle County Manager, P.O. Box 850, Eagle, CO 81631. | Eagle County Engineering Department, 500 Broadway Street, Eagle, CO 81631. | https://msc.fema.gov/portal/advanceSearch. | Jan. 26, 2021 | 080051
El Paso | Unincorporated areas of El Paso County (20-08-0369P). | The Honorable Mark Waller, Chairman, El Paso County Board of Commissioners, 200 South Cascade Avenue, Suite 100, Colorado Springs, CO 80903. | Pikes Peak Regional Development Center, 2880 International Circle, Colorado Springs, CO 80910. | https://msc.fema.gov/portal/advanceSearch. | Feb. 16, 2021 | 080059
Connecticut:
Fairfield | Town of Darien (20-01-0611P). | The Honorable Jayme J. Stevenson, First Selectman, Town of Darien Board of Selectmen, 2 Renshaw Road, Room 202, Darien, CT 06820. | Planning and Zoning Department, 2 Renshaw Road, Darien, CT 06820. | https://msc.fema.gov/portal/advanceSearch. | Jan. 22, 2021 | 090005
New Haven | Town of Branford (20-01-0799P). | The Honorable James B. Cosgrove, First Selectman, Town of Branford Board of Selectmen, 1019 Main Street, Branford, CT 06405. | Engineering Department, 1019 Main Street, Branford, CT 06405. | https://msc.fema.gov/portal/advanceSearch. | Jan. 15, 2021 | 090073
Florida:
Bay | City of Panama City Beach (20-04-1474P). | The Honorable Mark Sheldon, Mayor, City of Panama City Beach, 116 South Arnold Road, Panama City Beach, FL 32413. | Building Division, 116 South Arnold Road, Panama City Beach, FL 32413. | https://msc.fema.gov/portal/advanceSearch. | Jan. 28, 2021 | 120013
Bay | Unincorporated areas of Bay County (19-04-4735P). | The Honorable Philip “Griff” Griffitts, Chairman, Bay County Board of Commissioners, 840 West 11th Street, Panama City, FL 32401. | Bay County Planning and Zoning Department, 840 West 11th Street, Panama City, FL 32401. | https://msc.fema.gov/portal/advanceSearch. | Feb. 16, 2021 | 120004
Collier | City of Marco Island (20-04-4781P). | Mr. Mike McNees, Manager, City of Marco Island, 50 Bald Eagle Drive, Marco Island, FL 34145. | Building Services Department, 50 Bald Eagle Drive, Marco Island, FL 34145. | https://msc.fema.gov/portal/advanceSearch. | Jan. 22, 2021 | 120426
Hillsborough | City of Tampa (20-04-0296P). | The Honorable Jane Castor, Mayor, City of Tampa, 306 East Jackson Street, Tampa, FL 33602. | Planning and Development Department, 1400 North Boulevard, Tampa, FL 33607. | https://msc.fema.gov/portal/advanceSearch. | Feb. 8, 2021 | 120114
Hillsborough | Unincorporated areas of Hillsborough County (20-04-0296P). | Ms. Bonnie M. Wise, Hillsborough County Administrator, 601 East Kennedy Boulevard, Tampa, FL 33602. | Hillsborough County Development Services Department, 601 East Kennedy Boulevard, Tampa, FL 33602. | https://msc.fema.gov/portal/advanceSearch. | Feb. 8, 2021 | 120112
Lake | City of Leesburg (20-04-0931P). | Mr. Al Minner, Manager, City of Leesburg, 501 West Meadow Street, Leesburg, FL 34748. | Planning and Zoning Department, 204 North 5th Street, Leesburg, FL 34748. | https://msc.fema.gov/portal/advanceSearch. | Jan. 13, 2021 | 120136
Lake | Unincorporated areas of Lake County (20-04-0931P). | The Honorable Leslie Campione, Chair, Lake County Board of Commissioners, 315 West Main Street, Tavares, FL 32778. | Lake County Public Works Department, 323 North Sinclair Avenue, Tavares, FL 32778. | https://msc.fema.gov/portal/advanceSearch. | Jan. 13, 2021 | 120421
Lee | Town of Fort Myers Beach (20-04-3679P). | The Honorable Ray Murphy, Mayor, Town of Fort Myers Beach, 2525 Estero Boulevard, Fort Myers Beach, FL 33931. | Community Development Department, 2525 Estero Boulevard, Fort Myers Beach, FL 33931. | https://msc.fema.gov/portal/advanceSearch. | Jan. 19, 2021 | 120673
Monroe | Unincorporated areas of Monroe County (20-04-4173P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Jan. 19, 2021 | 125129
Orange | Unincorporated areas of Orange County (20-04-1076P). | The Honorable Jerry L. Demings, Mayor, Orange County, 201 South Rosalind Avenue, 5th Floor, Orlando, FL 32801. | Orange County Planning and Development Department, 4200 South John Young Parkway, Orlando, FL 32839. | https://msc.fema.gov/portal/advanceSearch. | Feb. 12, 2021 | 120179
Osceola | Unincorporated areas of Osceola County (20-04-1076P). | The Honorable Viviana Janer, Chair, Osceola County Board of Commissioners, 1 Courthouse Square, Suite 4700, Kissimmee, FL 34741. | Osceola County Building Department, 1 Courthouse Square, Suite 1400, Kissimmee, FL 34741. | https://msc.fema.gov/portal/advanceSearch. | Feb. 12, 2021 | 120189
Palm Beach | Unincorporated areas of Palm Beach County (19-04-6690P). | The Honorable Dave Kerner, Mayor, Palm Beach County, 301 North Olive Avenue, Suite 1201, West Palm Beach, FL 33401. | Palm Beach County Department of Planning, Zoning and Building Department, 2300 North Jog Road, West Palm Beach, FL 33401. | https://msc.fema.gov/portal/advanceSearch. | Jan. 29, 2021 | 120192
Montana: Lewis and Clark | City of Helena (20-08-0095P). | The Honorable Wilmot Collins, Mayor, City of Helena, 316 North Park Avenue, Room 323, Helena, MT 59623. | City Hall, 316 North Park Avenue, Helena, MT 59623. | https://msc.fema.gov/portal/advanceSearch. | Jan. 28, 2021 | 300040
New Hampshire:
Rockingham | Town of Salem (20-01-0650P). | Mr. Christopher A. Dillon, Manager, Town of Salem, 33 Geremonty Drive, Salem, NH 03079. | Town Hall, 33 Geremonty Drive, Salem, NH 03079. | https://msc.fema.gov/portal/advanceSearch. | Jan. 19, 2021 | 330142
Strafford | City of Dover (20-01-0517P). | The Honorable Robert Carrier, Mayor, City of Dover, 288 Central Avenue, Dover, NH 03820. | Planning Department, 288 Central Avenue, Dover, NH 03820. | https://msc.fema.gov/portal/advanceSearch. | Jan. 26, 2021 | 330145
North Carolina:
Henderson | Unincorporated areas of Henderson County (20-04-2036P). | The Honorable Grady Hawkins, Chairman, Henderson County Board of Commissioners, 1 Historic Courthouse Square, Suite 1, Hendersonville, NC 27102. | Henderson County Administration Building, 100 North King Street, Hendersonville, NC 28792. | https://msc.fema.gov/portal/advanceSearch. | Nov. 17, 2020 | 370125
Johnston | Town of Wilson's Mills (20-04-2016P). | The Honorable Jim Uzzle, Jr., Mayor, Town of Wilson's Mills, P.O. Box 448, Wilson's Mills, NC 27593. | Town Hall, 100 Railroad Street, Wilson's Mills, NC 27593. | https://msc.fema.gov/portal/advanceSearch. | Feb. 4, 2021 | 370262
Johnston | Unincorporated areas of Johnston County (20-04-2016P). | The Honorable Ted G. Godwin, Chairman, Johnston County Board of Commissioners, P.O. Box 1049 Smithfield, NC 27577. | Johnston County Planning Department, 309 East Market Street, Smithfield, NC 27577. | https://msc.fema.gov/portal/advanceSearch. | Feb. 4, 2021 | 370138
Oklahoma:
Payne | City of Stillwater (20-06-0276P). | The Honorable Will Joyce, Mayor, City of Stillwater, 723 South Lewis Street, Stillwater, OK 74047. | Development Services Department, 723 South Lewis Street, Stillwater, OK 74047. | https://msc.fema.gov/portal/advanceSearch. | Jan. 22, 2021 | 405380
Payne | Unincorporated areas of Payne County (20-06-0276P). | The Honorable Kent Bradley, Chairman, Payne County Board of Commissioners, 506 Expo Circle South, Stillwater, OK 74074. | Payne County Administrative Building, 315 West 6th Street, Suite 203, Stillwater, OK 74074. | https://msc.fema.gov/portal/advanceSearch. | Jan. 22, 2021 | 400493
Tennessee:
Shelby | City of Memphis (20-04-1185P). | The Honorable Jim Strickland, Mayor, City of Memphis, 125 North Main Street, Room 700, Memphis, TN 38103. | Engineering Division, 125 North Main Street, Room 677, Memphis, TN 38103. | https://msc.fema.gov/portal/advanceSearch. | Jan. 27, 2021 | 470177
Shelby | Unincorporated areas of Shelby County (20-04-1185P). | The Honorable Lee Harris, Mayor, Shelby County, 160 North Main Street, Memphis, TN 38103. | Shelby County Department of Engineering, 6463 Haley Road, Memphis, TN 38134. | https://msc.fema.gov/portal/advanceSearch. | Jan. 27, 2021 | 470214
Texas:
Bell | City of Temple (20-06-2105P). | The Honorable Tim Davis, Mayor, City of Temple, 2 North Main Street, Suite 103, Temple, TX 76501. | Department of Public Works, Engineering Division, 3210 East Avenue H, Building A, Suite 107, Temple, TX 76501. | https://msc.fema.gov/portal/advanceSearch. | Feb. 16, 2021 | 480034
Denton | City of Sanger (20-06-1045P). | The Honorable Thomas Muir, Mayor, City of Sanger, P.O. Box 1729, Sanger, TX 76266. | City Hall, 201 Bolivar Street, Sanger, TX 76266. | https://msc.fema.gov/portal/advanceSearch. | Jan. 25, 2021 | 480786
Denton | Unincorporated areas of Denton County (20-06-1045P). | The Honorable Andy Eads, Denton County Judge, 110 West Hickory Street, 2nd Floor, Denton, TX 76201. | Denton County Public Works, Engineering Department, 1505 East McKinney Street, Suite 175, Denton, TX 76209. | https://msc.fema.gov/portal/advanceSearch. | Jan. 25, 2021 | 480774
Guadalupe | City of San Marcos (20-06-3176P). | The Honorable Jane Hughson, Mayor, City of San Marcos, 630 East Hopkins Street, San Marcos, TX 78666. | Engineering Department, 630 East Hopkins Street, San Marcos, TX 78666. | https://msc.fema.gov/portal/advanceSearch. | Dec. 31, 2020 | 485505

[FR Doc. 2020-24976 Filed 11-10-20; 8:45 am]

BILLING CODE 9110-12-P